NUCLEAR REGULATORY COMMISSION

Sunshine Act Meeting

AGENCY HOLDING THE MEETING: Nuclear Regulatory Commission.

Date: Weeks of January 13, 20, 27, February 3, 10, 17, 2003.

Place: Commissioners' Conference Room, 11555 Rockville Pike, Rockville, Maryland.

Status: Public and closed.

Matters to be Considered:

Week of January 13, 2003

Tuesday, January 14, 2003.

10 a.m. Discussion of security issues (closed-Ex. 1).

1 p.m. Briefing on NRC Lessons Learned: Davis-Besse Reactor Vessel Head (RVH) Degradation (public meeting).

Note: New starting time for this meeting. (Contact: Stacey Rosenberg, 301-415-1733.)

This meeting will be webcast live at the Web address— http://www.nrc.gov.

Week of Janury 20, 2003—Tentative

Thursday, January 23, 2003.

2 p.m. Briefing on status of Office of Nuclear Material Safety and Safeguards (NMSS) programs, performance, and plans—materials safety (public meeting) (contact: Claudia Seelig, 301-415-7243).

This meeting will be webcast at the Web address— http://www.nrc.gov.

Week of January 27, 2003—Tentative

There are no meetings scheduled for the week of January 27, 2003.

Week of February 3, 2003—Tentative

Tuesday, February 4, 2003.

10 a.m. Briefing on status of Office of Chief Information Officer (OCIO) programs, performance, and plans (public meeting) (contact: Jackie Silber, 301-415-7330).

This meeting will be webcast at the Web address— http://www.nrc.gov.

Week of Februry 10, 2003—Tentative

Monday, February 10, 2003.

10 a.m. Briefing on status of Office of Nuclear Reactor Regulation (NRR) programs, performance, and plans (public meeting) (contact: Michael Case, 301-415-1275).

This meeting will be webcast at the Web address— http://www.nrc.gov.

Tuesday, February 11, 2003.

10 a.m. Briefing on status of Office of Chief Financial Officer (OCFO) programs, performance, and plans (public meeting) (contact: Lars Solander, 301-415-6080).

This meeting will be webcast at the Web address— http://www.nrc.gov.

Week of February 17, 2003—Tentative

There are no meetings scheduled for the week of February 17, 2003.

*The schedule for Commission meetings is subject to change on short notice. To verify the status of meetings call (recording)—(301) 415-1292. Contact person for more information David Louis Gamberoni (301) 415-1651.

* * * * *

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 9, 2003.
David Louis Gamberoni,
Technical Coordinator, Office of the Secretary.

[FR Doc. 03-861 Filed 1-10-03; 12:38 pm]

BILLING CODE 4590-01-M